DEPARTMENT OF TRANSPORTATION

Federal Aviation Administration

14 CFR Part 39

[Docket No. FAA-2011-1115; Directorate Identifier 2010-SW-011-AD; Amendment 39-17017; AD 2012-08-01]

RIN 2120-AA64

Airworthiness Directives; Sikorsky Aircraft Corporation Helicopters

AGENCY: Federal Aviation Administration (FAA), DOT.

ACTION: Final rule.

SUMMARY: We are adopting a new airworthiness directive (AD) for Sikorsky Aircraft Corporation (Sikorsky) Model S-92A helicopters. This AD was prompted by the manufacturer's analysis of engine data that revealed the data was inaccurate in dealing with available above specification engine power margin. This AD requires revising the Operating Limitations section of the Sikorsky Model S-92A Rotorcraft Flight Manual (RFM). The actions are intended to prevent the use of inaccurate engine performance data in calculating maximum gross weight by revising the Operating Limitations section of the RFM.

DATES: This AD is effective May 24, 2012.

ADDRESSES: For service information identified in this AD, contact Sikorsky Aircraft Corporation, Attn: Manager, Commercial Technical Support, Mailstop s581a, 6900 Main Street, Stratford, CT 06614; telephone (800) 562-4409; email tsslibrary@sikorsky.com; or at http://www.sikorsky.com. You may review a copy of the referenced service information at the FAA, Office of the Regional Counsel, Southwest Region, 2601 Meacham Blvd., Room 663, Fort Worth, Texas 76137.

Examining the AD Docket: You may examine the AD docket on the Internet at http://www.regulations.gov; or in person at the Docket Operations Office between 9 a.m. and 5 p.m., Monday through Friday, except Federal holidays. The AD docket contains this AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: John Coffey, Aviation Safety Engineer, Boston Aircraft Certification Office, Engine & Propeller Directorate, 12 New England Executive Park, Burlington, MA 01803; telephone (781) 238-7173; email john.coffey@faa.gov.

SUPPLEMENTARY INFORMATION:

Discussion

On October 26, 2011, at 76 FR 66207, the Federal Register published our Notice of proposed rulemaking (NPRM), which proposed to amend 14 CFR part 39 to include an AD that would apply to Sikorsky Model S-92A helicopters, certificated in any category. That NPRM proposed to require revising the Operating Limitations section, Part 1, Section 1, Weight Limits, of the appropriate Sikorsky Model S-92A RFM with the following statement “Performance credit for above specification engine power margin is prohibited.” The proposed requirements were intended to prevent the use of inaccurate performance data in calculating the maximum gross weight.

Comments

We gave the public the opportunity to participate in developing this AD, but we did not receive any comments on the NPRM.

Related Service Information

Sikorsky has published various RFM revisions correcting the charts in Parts I and IV of the RFM. If those revisions have previously been incorporated into the RFM, the RFM revision specified by the NPRM would not be required. The RFM revisions, all dated April 9, 2008, are as follows:

Affected RFM | Revision with correct charts
S92A-RFM-002 | Revision 8.
S92A-RFM-003 | Revision 7.
S92A-RFM-004 | Revision 6.
S92A-RFM-005 | Revision 5.
S92A-RFM-006 | Revision 6.

FAA's Determination

We have reviewed the relevant information and determined that an unsafe condition exists and is likely to exist or develop on other products of the same type design and that air safety and the public interest require adopting the AD requirements as proposed, except for minor editorial and formatting changes. These changes will not increase the economic burden on any operator nor increase the scope of the AD.

Costs of Compliance

We estimate that this AD will affect 37 helicopters of U.S. Registry.

We estimate that operators may incur the following costs in order to comply with this AD. It will take about 1 work-hour per helicopter to insert the revisions into the RFM at an average labor rate of $85 per work-hour. Parts costs are not associated with this AD. Based on these figures, we estimate the total cost impact of this AD on U.S. operators to be $3,145.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-08-01 Sikorsky Aircraft Corporation: Amendment 39-17017; Docket No. FAA-2011-1115; Directorate Identifier 2010-SW-011-AD.

(a) Applicability

This AD applies to Sikorsky Aircraft Corporation (Sikorsky) Model S-92A helicopters, certificated in any category.

(b) Unsafe Condition

This AD defines the unsafe condition as inaccurate above specification engine power margin data. This condition could result in the use of inaccurate engine performance data in calculating maximum gross weight.

(c) Effective Date

This AD becomes effective May 24, 2012.

(d) Compliance

You are responsible for performing each action required by this AD within the specified compliance time unless it has already been accomplished prior to that time.

(e) Required Actions

Within 90 days:

(1) By making pen and ink changes, insert into the Operating Limitations section, Part 1, Section 1, Weight Limits, of Rotorcraft Flight Manuals (RFMs) SA S92A-RFM-002, -003, -004, -005, and -006 the following limitation “Performance credit for above specification engine power margin is prohibited.”

(2) If the RFM already contains the revisions appropriate for your helicopter as listed in the following Table 1, all dated April 9, 2008, with the correct performance charts, without the performance credit as depicted in the circled area of Figure 1 of this AD, the operating limitation required by paragraph (1) of this AD does not need to be inserted into the RFM.

Table 1
Affected RFM | Revision with correct charts
S92A-RFM-002 | Revision 8.
S92A-RFM-003 | Revision 7.
S92A-RFM-004 | Revision 6.
S92A-RFM-005 | Revision 5.
S92A-RFM-006 | Revision 6.

Note to paragraph (e)(2) of this AD: Previous RFM revisions allowed for the use of above-specification engine power margin as depicted in the circled area of Figure 1 of this AD.

(f) Alternative Methods of Compliance (AMOCs)

(1) The Manager, Boston Aircraft Certification Office, FAA, may approve AMOCs for this AD. Send your proposal to: John Coffey, Aviation Safety Engineer, Boston Aircraft Certification Office, Engine & Propeller Directorate, 12 New England Executive Park, Burlington, MA 01803; telephone (781) 238-7173; email john.coffey@faa.gov.

(2) For operations conducted under a Part 119 operating certificate or under Part 91, Subpart K, we suggest that you notify your principal inspector, or lacking a principal inspector, the manager of the local flight standards district office or certificate holding district office before operating any aircraft complying with this AD through an AMOC.

(g) Additional Information

Sikorsky Rotorcraft Flight Manuals SA S92A-RFM-002, Revision 8; -003, Revision 7; -004, Revision 6; -005, Revision 5; and -006, Revision 6, all dated April 9, 2008, which are not incorporated by reference, contain additional information about the subject of this AD. For this service information, contact Sikorsky Aircraft Corporation, Attn: Manager, Commercial Technical Support, Mailstop s581a, 6900 Main Street, Stratford, CT 06614; telephone (800) 562-4409; email tsslibrary@sikorsky.com; or at http://www.sikorsky.com. You may review a copy of this service information at the FAA, Office of the Regional Counsel, Southwest Region, 2601 Meacham Blvd., Room 663, Fort Worth, Texas 76137.

(h) Subject

Joint Aircraft Service Component (JASC) Code: 7200, Engine (Turbine/Turboprop).

*

Issued in Fort Worth, Texas, on April 9, 2012.
Lance T. Gant,
Acting Manager, Rotorcraft Directorate, Aircraft Certification Service.

[FR Doc. 2012-9298 Filed 4-18-12; 8:45 am]

BILLING CODE 4910-13-P